DEPARTMENT OF COMMERCE

Census Bureau

[Docket Number: 240305-0069]

X-RIN 0607-XC075

Current Mandatory Business Surveys

AGENCY: Census Bureau, Department of Commerce.

ACTION: Notice of determination.

SUMMARY: The Bureau of the Census (Census Bureau) will conduct the following current mandatory business surveys in 2024: Annual Integrated Economic Survey, Annual Business Survey, Business and Professional Classification Report, and the Business Enterprise Research and Development Survey. We have determined that data collected from these surveys are needed to aid the efficient performance of essential governmental functions and have significant application to the needs of the public and industry. The data derived from these surveys, most of which have been conducted for many years, are not publicly available from nongovernmental or other governmental sources.

ADDRESSES: The Census Bureau will make available the reporting instructions to the organizations included in the surveys. Additional copies are available upon written request to the Director, 4600 Silver Hill Road, U.S. Census Bureau, Washington, DC 20233-0101.

FOR FURTHER INFORMATION CONTACT: Nick Orsini, Associate Director for Economic Programs, telephone: 301-763-1858; email: Nick.Orsini@census.gov.

SUPPLEMENTARY INFORMATION: The surveys described herein are authorized by title 13, United States Code (U.S.C.), sections 131 and 182 and are necessary to furnish current data on the subjects covered by the major censuses. These surveys are made mandatory under the provisions of sections 224 and 225 of title 13, U.S.C. These surveys will provide continuing and timely national statistical data for the period between economic censuses. The data collected in the surveys will be within the general scope and nature of those inquiries covered in the economic census. The most recent economic census was conducted in 2023 for the reference year 2022. The next economic census will occur in 2028 for the reference year 2027.

Notice of specific reporting requirements for each survey, including who is to report, the information to be reported, the manner of reporting, and the time and place of filing reports, will be provided by mail or email only to those required to complete these surveys.

Annual Integrated Economic Survey (AIES)

The AIES is a new survey designed to combine several existing Census Bureau annual survey collections to reduce respondent burden and simultaneously increase data quality and operational efficiencies. The AIES integrates and replaces the following existing annual collections: the Annual Retail Trade Survey (ARTS) (Office of Management and Budget (OMB) control number 0607-0013), the Annual Wholesale Trade Survey (AWTS) (OMB control number 0607-0195), the Service Annual Survey (SAS) (OMB control number 0607-0422), the Annual Survey of Manufactures (ASM) (OMB control number 0607-0449), the Annual Capital Expenditures Survey (ACES) (OMB control number 0607-0782), the Manufacturer's Unfilled Orders Survey (M3UFO) (OMB control number 0607-0561), and the Report of Organization (OMB control number 0607-0444).

The AIES covers all domestic, private, non-farm employer businesses in the U.S. (50 States and the District of Columbia) as defined by the 2017 North American Industry Classification System (NAICS). Exclusions are most foreign operations of U.S. businesses and most government operations (including the U.S. Postal Service), agricultural production companies, and private households. The AIES sample is selected from a frame of approximately 5.4 million companies constructed from the Business Register (BR), which is the Census Bureau's master business list.

The AIES estimates will include data on employment; revenue including sales; shipments; receipts; taxes, contributions; gifts and grants; products; e-commerce activity; operating expenses including purchased services; payroll; benefits; rental payments; utilities; interest; equipment; materials and supplies; other detailed operating expenses; and assets which includes capital expenditures; inventories; depreciable assets; and robotics.

The AIES will provide continuous and timely national and subnational statistical data on the economy. Government program officials, industry organization leaders, economic and social analysts, business entrepreneurs, and domestic and foreign researchers in academia, business, and government will use statistics from AIES.

More information regarding the AIES can be found in the Information Collection Request approved by the Office of Management and Budget on February 7, 2024 at the following link: https://www.reginfo.gov/public/do/PRAViewICR?ref_nbr=202310-0607-003

Annual Business Survey (ABS)

The ABS provides information on selected economic and demographic characteristics for businesses and business owners by sex, ethnicity, race, and veteran status. Further, the survey measures research and development for microbusinesses, new business topics such as innovation and technology, as well as other business characteristics. The ABS includes all nonfarm employer businesses filing Internal Revenue Service (IRS) tax forms as individual proprietorships, partnerships, or any other type of corporation, with receipts of $1,000 or more. The ABS is sponsored by the National Center for Science and Engineering Statistics (NCSES) within the National Science Foundation (NSF) and conducted by the Census Bureau.

More information regarding the ABS can be found in the Information Collection Request approved by the Office of Management and Budget on April 24, 2023 at the following link: https://www.reginfo.gov/public/do/PRAViewICR?ref_nbr=202301-0607-003.

Business and Professional Classification Report

The Business and Professional Classification Report collects one-time data on a firm's type of business activity from a sample of businesses that were recently assigned Federal Employer Identification Numbers or recently added to the scope of the Census Bureau's current business surveys. The data are used to update the sampling frames for our current business surveys. Additionally, the business classification data will help ensure businesses are directed to complete the correct report in the economic census.

More information regarding the Business and Professional Classification Report can be found in the Information Collection Request approved by the Office of Management and Budget on September 15, 2021 at the following link: https://www.reginfo.gov/public/do/PRAViewICR?ref_nbr=202105-0607-002.

Business Enterprise Research and Development Survey (BERD)

The BERD collects annual data on spending for research and development activities by businesses. The BERD collects foreign as well as domestic spending information, more detailed information about the R&D workforce, and information regarding intellectual property from U.S. businesses. The Census Bureau collects and compiles this information in accordance with a joint project agreement between the National Science Foundation (NSF) and the Census Bureau. The NSF posts the BERD information results on their website.

More information regarding the BERD can be found in the Information Collection Request approved by the Office of Management and Budget on December 15, 2021 at the following link: https://www.reginfo.gov/public/do/PRAViewICR?ref_nbr=202108-0607-005.

Paperwork Reduction Act

Notwithstanding any other provision of law, no person is required to respond to, nor shall a person be subject to a penalty for failure to comply with a collection of information subject to the requirements of the Paperwork Reduction Act (PRA) unless that collection of information displays a currently valid Office of Management and Budget (OMB) control number. In accordance with the PRA, 44 U.S.C. chapter 45, OMB approved the surveys described in this notice under the following OMB control numbers: AIES, 0607-1024; ABS, 0607-1004; Business and Professional Classification Report, 0607-0189; and BERD, 0607-0912.

Based upon the foregoing, I have directed that the current mandatory business surveys be conducted for the purpose of collecting these data.

Robert L. Santos, Director, Census Bureau, approved the publication of this notice in the Federal Register.

Dated: March 19, 2024.
Shannon Wink,
Program Analyst, Policy Coordination Office, U.S. Census Bureau.

[FR Doc. 2024-06226 Filed 3-22-24; 8:45 am]

BILLING CODE 3510-07-P